DEPARTMENT OF VETERANS AFFAIRS

Advisory Committee on CARES Business Plan Studies; Notice of Meeting

The Department of Veterans Affairs (VA) gives notice under the Public Law 92-463 (Federal Advisory Committee Act) that the Advisory Committee on CARES Business Plan Studies will meet as indicated below. The meetings are open to the public.

Location | Date | Time
The Shaw's Center, 1 Lexington Avenue, Brockton, MA 02301 | September 18, 2006 | 10 a.m. until 5:15 p.m.
VA Medical Center, 2250 Leestown Road Division, Auditorium, Building 1, Lexington, KY 40511 | September 20, 2006 | 1 p.m. until 5 p.m.
VA Medical Center, Walla Walla Theatre, 77 Wainwright Drive, Building 74, Walla Walla, WA | September 25, 2006 | 9 a.m. until 12 noon.

The purpose of the Committee is to provide advice to the Secretary of Veterans Affairs on proposed business plans at those VA facility sites identified in May 2004 as requiring further study by the Capital Asset Realignment for Enhanced Services (CARES) Decision document.

The objectives of the meetings in Brockton, MA and Lexington, KY are to communicate the Secretary's decision on the specific options to be evaluated and the timeframe for the completion of the studies. Additional presentations will focus on the VA-selected contractor's methodology and tools to evaluate the remaining options. The agendas will also accommodate public commentary on implementation issues associated with each option.

Featured agenda items of the meeting in Walla Walla, WA include a discussion of the summary of the proposed space plan and siting of the new multi-specialty outpatient clinic on the VA Medical Center Walla Walla campus.

Interested persons may attend and present oral or written statements to the Committee. For additional information regarding the meetings, please contact Mr. Jay Halpern, Designated Federal Officer, (00CARES), 810 Vermont Avenue, NW., Washington, DC 20024 by phone at (202) 273-5994, or by e-mail at jay.halpern@hq.med.va.gov.

Dated: August 28, 2006.
By direction of the Secretary.
E. Philip Riggin,
Committee Management Officer.

[FR Doc. 06-7386 Filed 8-31-06; 8:45 am]

BILLING CODE 8320-01-M